DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on September 25, 2024. See SUPPLEMENTARY INFORMATION for relevant dates.

FOR FURTHER INFORMATION CONTACT: OFAC: Associate Director for Global Targeting, 202-622-2420; or Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On September 25, 2024, OFAC determined that the property and interests in property subject to U.S. jurisdiction of the following persons are blocked under the relevant sanctions authority listed below.

Individuals

1. VICTOR, Prophane (a.k.a. PROFANE, Victor; a.k.a. PROPHANE, Victor), 64 Pelerin 5, Petion-Ville, West, HT6142, Haiti; 3, Rue Marcelin, Tabarre 61, Tabarre, Ouiest, HT6125, Haiti; DOB 08 Feb 1969; POB Port-au-Prince, Haiti; nationality Haiti; citizen Haiti; Gender Male; Passport R10097145 (Haiti) expires 09 May 2031; National ID No. 0033760991 (Haiti) (individual) [GLOMAG].

Designated pursuant to section (1)(a)(iii)(A)(3) of Executive Order 13818 of December 20, 2017, “Blocking the Property of Persons Involved in Serious Human Rights Abuse or Corruption,” 82 FR 60839, 3 CFR, 2017 Comp., p. 399, (E.O. 13818) for being a person who has materially assisted, sponsored, or provided financial, material, or technological support for, or goods or services to or in support of an entity, including any government entity, that has engaged in, or whose members have engaged in serious human rights abuse, where the activity is conducted by a foreign person.

2. ELAN, Luckson (Latin: ÉLAN, Luckson) (a.k.a. ELAN, Lucson; a.k.a. “GENERAL LUCKSON”; a.k.a. “JENERAL LUCKSON”), Artibonite Department, Haiti; DOB 06 Jan 1988; nationality Haiti; Gender Male (individual) [GLOMAG].

Designated pursuant to section (1)(a)(ii)(A) and (1)(a)(ii)(C)(1) of E.O. 13818 for being a foreign person who is responsible for or complicit in, or has directly or indirectly engaged in, serious human rights abuse and is or has been a leader or official of an entity, including any government entity, that has engaged in, or whose members have engaged in serious human rights abuse relating to the leader's or official's tenure.

Lisa M. Palluconi,
Acting Director, Office of Foreign Assets Control.

[FR Doc. 2024-28084 Filed 11-29-24; 8:45 am]

BILLING CODE 4810-AL-P